DEPARTMENT OF TRANSPORTATION

Federal Motor Carrier Safety Administration

[Docket No. FMCSA-2008-0204]

Notice of Delay in Processing the Applications by American Trucking Associations, Inc. and the Massachusetts Department of Highways for a Preemption Determination Concerning the City of Boston's Hazardous Materials Routing Restrictions

AGENCY: Federal Motor Carrier Safety Administration (FMCSA), DOT.

ACTION: Notice.

SUMMARY: In accordance with statutory requirements, FMCSA is publishing a notice of delay in processing the American Trucking Associations, Inc.'s (ATA) and the Massachusetts Department of Highways' applications for a preemption determination concerning the City of Boston's restrictions regarding highway routing of certain hazardous materials. FMCSA is conducting fact-finding and legal analysis in response to the consolidated requests, and is delaying issuance of its determination in order to allow time for appropriate consideration of the issues raised by the applications.

FOR FURTHER INFORMATION CONTACT: James Simmons, Chief, Hazardous Materials Division (MC-ECH), (202) 493-0496; Federal Motor Carrier Safety Administration, 1200 New Jersey Avenue, SE., Washington, DC 20590, or at james.simmons@dot.gov.

SUPPLEMENTARY INFORMATION: ATA and the Massachusetts Department of Highways applied for an administrative determination concerning whether Federal hazardous material transportation law, 49 U.S.C. 5101 et seq., and FMCSA regulations, 49 CFR part 397, preempt certain hazardous material routing requirements that have been established or modified by the City of Boston. FMCSA published notice of ATA's application in the Federal Register on August 8, 2008. 73 FR 46349. FMCSA published notice of Massachusetts Department of Highways' application in the Federal Register on September 2, 2008 (73 FR 51335), at which time both applications were consolidated into one docket.

Title 49 U.S.C. 5125(d) requires FMCSA to issue a decision on the preemption applications “within 180 days after the date of the publication of the notice of having received such application, or the Secretary shall publish a statement in the Federal Register of the reason why the Secretary's decision on the application is delayed, along with an estimate of the additional time necessary before the decision is made.”

The ATA and Massachusetts Department of Highways' applications for a preemption determination are still under consideration by FMCSA. The Agency currently is conducting fact-finding and legal analysis in response to the applications. Because of this additional fact-finding and legal analysis, it is impracticable to issue a decision within the 180-day timeframe. In order to allow time for full consideration of the issues raised by the applications, FMCSA delays issuance of its determination, and estimates a decision will be published in approximately 120 days.

Issued on: February 25, 2009.
Rose A. McMurray,
Acting Deputy Administrator.

[FR Doc. E9-4453 Filed 3-2-09; 8:45 am]

BILLING CODE 4910-EX-P